DEPARTMENT OF HOMELAND SECURITY

Federal Emergency Management Agency

[Docket ID FEMA-2022-0002; Internal Agency Docket No. FEMA-B-2272]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Arizona:
Maricopa | City of Glendale (21-09-1877P). | The Honorable Jerry Weiers, Mayor, City of Glendale, 5850 West Glendale Avenue, Suite 451, Glendale, AZ 85301. | City Hall, 5850 West Glendale Avenue, Glendale, AZ 85301. | https://msc.fema.gov/portal/advanceSearch. | Nov. 18, 2022 | 040045
Maricopa | City of Goodyear (21-09-1877P). | The Honorable Joe Pizzillo, Mayor, City of Goodyear, 190 North Litchfield Road, Goodyear, AZ 85338. | Engineering and Development Services, 14455 West Van Buren Street, Suite D101, Goodyear, AZ 85338. | https://msc.fema.gov/portal/advanceSearch. | Nov. 18, 2022 | 040046
Maricopa | City of Phoenix (21-09-1437P). | The Honorable Kate Gallego, Mayor, City of Phoenix, City Hall, 200 West Washington Street, Phoenix, AZ 85003. | Street Transportation Department, 200 West Washington Street, 5th Floor, Phoenix, AZ 85003. | https://msc.fema.gov/portal/advanceSearch. | Nov. 18, 2022 | 040051
Maricopa | Unincorporated Areas of Maricopa County (21-09-1437P). | The Honorable Bill Gates, Chair, Board of Supervisors, Maricopa County, 301 West Jefferson Street, 10th Floor, Phoenix, AZ 85003. | Flood Control District of Maricopa County, 2801 West Durango Street, Phoenix, AZ 85009. | https://msc.fema.gov/portal/advanceSearch. | Nov. 18, 2022 | 040037
Maricopa | Unincorporated Areas of Maricopa County (21-09-1877P). | The Honorable Bill Gates, Chair, Board of Supervisors, Maricopa County, 301 West Jefferson Street, 10th Floor, Phoenix, AZ 85003. | Flood Control District of Maricopa County, 2801 West Durango Street, Phoenix, AZ 85009. | https://msc.fema.gov/portal/advanceSearch. | Nov. 18, 2022 | 040037
Yavapai | Town of Prescott Valley (21-09-1114P). | The Honorable Kell Palguta, Mayor, Town of Prescott Valley, Civic Center, 7501 East Skoog Boulevard, 4th Floor, Prescott Valley, AZ 86314. | Town Hall, Engineering Division, 7501 East Civic Circle, Prescott Valley, AZ 86314. | https://msc.fema.gov/portal/advanceSearch. | Nov. 14, 2022 | 040121
California:
San Mateo | City of South San Francisco (21-09-0918P). | The Honorable Mark Nagales, Mayor, City of South San Francisco, 400 Grand Avenue, South San Francisco, CA 94080. | City Hall, 400 Grand Avenue, South San Francisco, CA 94080. | https://msc.fema.gov/portal/advanceSearch. | Nov. 17, 2022 | 065062
San Mateo | Town of Colma (21-09-0918P). | The Honorable Helen Fisicaro, Mayor, Town of Colma, 1198 El Camino Real, Colma, CA 94014. | Town Hall, 1198 El Camino Real, Colma, CA 94014. | https://msc.fema.gov/portal/advanceSearch. | Nov. 17, 2022 | 060316
Hawaii: Hawaii | Hawaii County (20-09-1349P). | The Honorable Mitch Roth, Mayor, County of Hawaii, 25 Aupuni Street, Hilo, HI 96720. | Hawaii County, Department of Public Works, Engineering Division, 101 Pauahi Street, Suite 7, Hilo, HI 96720. | https://msc.fema.gov/portal/advanceSearch. | Nov. 14, 2022 | 155166
Illinois:
Will | City of Lockport (22-05-1296P). | The Honorable Steven Streit, Mayor, City of Lockport, 222 East 9th Street, Lockport, IL 60441. | Public Works and Engineering Department, 17112 South Prime Boulevard, Lockport, IL 60441. | https://msc.fema.gov/portal/advanceSearch. | Nov. 18, 2022 | 170703
Will | Unincorporated Areas of Will County (22-05-1296P). | The Honorable Jennifer Bertino-Tarrant, Will County Executive, Will County Office Building, 302 North Chicago Street, Joliet, IL 60432. | Will County Land Use Department, 58 East Clinton Street, Suite 100, Joliet, IL 60432. | https://msc.fema.gov/portal/advanceSearch. | Nov. 18, 2022 | 170695
Kentucky: Scott | Unincorporated Areas of Scott County (21-04-4848P). | Executive Joe Pat Covington, Scott County, 101 East Main Street, Suite 210, Georgetown, KY 40324. | Georgetown-Scott County Planning Commission, 230 East Main Street, Georgetown, KY 40324. | https://msc.fema.gov/portal/advanceSearch. | Nov. 21, 2022 | 210207
Michigan: Wayne | Township of Canton (22-05-0850P). | Supervisor Anne Marie Graham-Hudak, Township of Canton, 1150 Canton Center South, Canton, MI 48188. | Canton Municipal Complex, 1150 South Canton Center Road, Canton, MI 48188. | https://msc.fema.gov/portal/advanceSearch. | Nov. 28, 2022 | 260219
New York:
Erie | Town of Evans (21-02-0897P). | Supervisor Mary Hosler, Town of Evans Board Members, 8787 Erie Road, Angola, NY 14006. | Town Hall, 8787 Erie Road, Angola, NY 14006. | https://msc.fema.gov/portal/advanceSearch. | Jan. 26, 2023 | 360240
Orange | Village of Harriman (21-02-0938P). | The Honorable Lou Medina, Mayor, Village of Harriman, 1 Church Street, Harriman, NY 10926. | Village Hall, 1 Church Street, Harriman, NY 10926. | https://msc.fema.gov/portal/advanceSearch. | Jan. 12, 2023 | 360618
Texas: Tarrant | City of North Richland Hills (21-06-2663P). | The Honorable Oscar Trevino, Jr., Mayor, City of North Richland Hills, P.O. Box 820609, North Richland Hills, TX 76182. | City Hall, 4301 City Point Drive, North Richland Hills, TX 76180. | https://msc.fema.gov/portal/advanceSearch. | Dec. 15, 2022 | 480607
Wisconsin: Waukesha | Village of Summit (21-05-1028P). | President Jack Riley, Village of Summit, 37100 Delafield Road, Summit, WI 53066. | Village Hall, 2911 North Dousman Road, Oconomowoc, WI 53066. | https://msc.fema.gov/portal/advanceSearch. | Nov. 28, 2022 | 550663

[FR Doc. 2022-19834 Filed 9-13-22; 8:45 am]

BILLING CODE 9110-12-P